FEDERAL ELECTION COMMISSION

Sunshine Act Meeting

AGENCY: Federal Election Commission.

Special Executive Session

DATE & TIME: Thursday, March 1, 2001, following the open meeting.

PLACE: 999 E Street, NW., Washington, DC.

STATUS: This Meeting was Closed to the Public Pursuant to 11 CFR 2.4(b)(1).

ITEM TO BE DISCUSSED: Personnel.

DATE & TIME: Tuesday, March 13, 2001 at 10 a.m.

PLACE: 999 E Street, NW., Washington, DC.

STATUS: This Meeting will be Closed to the Public.

ITEMS TO BE DISCUSSED: Compliance matters pursuant to 2 U.S.C. 437g. Audits conducted pursuant to 2 U.S.C. 437g, 438(b), and Title 26, U.S.C. Matters concerning participation in civil actions or proceedings or arbitration. Internal personnel rules and procedures or matters affecting a particular employee.

DATE & TIME: Thursday, March 15, 2001 at 10 a.m.

PLACE: 999 E Street, NW., Washington, DC (Ninth Floor).

STATUS: This Meeting will be Open to the Public.

ITEMS TO BE DISCUSSED: Correction and Approval of Minutes. Draft Advisory Opinion 2000-30: Pac.com by counsel, Ronald B. Turovsky. Administrative Matters.

PERSON TO CONTACT FOR INFORMATION: Mr. Ron Harris, Press Officer, Telephone: (202) 694-1220.

Mary W. Dove,
Acting Secretary of the Commission.

[FR Doc. 01-5834 Filed 3-6-01; 12:42 pm]

BILLING CODE 6715-01-M